CONSUMER PRODUCT SAFETY COMMISSION

CPSC Roundtable on Equity Action Plan

AGENCY: Consumer Product Safety Commission.

ACTION: Notice of forum.

SUMMARY: The Consumer Product Safety Commission (Commission or CPSC) will hold a roundtable discussion on its Equity Action Plan created in response to Executive Order 13985—Advancing Racial Equity and Support for Underserved Communities Through the Federal Government. CPSC staff invites interested parties to attend and participate in this forum in-person or via webinar.

DATES: The forum will take place from 1 p.m. to 3 p.m., Eastern Standard Time (EST) on Wednesday, May 25, 2022. Individuals interested in serving as active participants in-person or via webinar should contact Jonathan Midgett at consumerombudsman@cpsc.gov by May 18, 2022. Individuals interested in serving as active participants via webinar should also register online by May 18, 2022. All other individuals who wish to attend the discussion as online observers should register by May 24, 2022. In-person observers do not require registration.

ADDRESSES: The forum will be held in-person and via webinar in the Commission's main Hearing Room located on the fourth floor of Bethesda Towers, 4330 East-West Highway, Bethesda, MD 20814. Attendance is free of charge. Persons interested in attending the roundtable online should register online at: https://cpsc.webex.com/cpsc/onstage/g.php?MTID=e6d371417117fc772ce1d9b2da1ed50ff. After registering, you will receive a confirmation email containing information about joining the webinar. In-person attendance does not require registration. Persons interested in being active participants in the discussion should contact Jonathan Midgett, Consumer Ombudsman, at consumerombudsman@cpsc.gov.

FOR FURTHER INFORMATION CONTACT: Jonathan Midgett, Consumer Ombudsman, 4330 East-West Highway, Bethesda, MD 20814; telephone: 301-509-8120; email: consumerombudsman@cpsc.gov.

SUPPLEMENTARY INFORMATION: CPSC staff is hosting a roundtable discussion on the agency's Equity Action Plan created in response to Executive Order 13985—Advancing Racial Equity and Support for Underserved Communities Through the Federal Government.¹ The information collected from the forum will assist staff in making recommendations for improving CPSC's Equity Action Plan.²

¹ https://www.federalregister.gov/documents/2021/01/25/2021-01753/advancing-racial-equity-and-support-for-underserved-communities-through-the-federal-government.

² The Commission voted 4-0 to approve this notice.

I. Background

Executive Order 13985 defines the term “equity” as “the consistent and systematic fair, just, and impartial treatment of all individuals, including individuals who belong to underserved communities that have been denied such treatment.” ³ CPSC staff reviewed current racial data related to certain consumer product-related injuries and fatalities and found that some racial minorities have disproportionately higher rates of injury associated with carbon monoxide poisoning, residential fires, and drowning in pools and spas.

³ https://www.whitehouse.gov/briefing-room/presidential-actions/2021/06/25/executive-order-on-diversity-equity-inclusion-and-accessibility-in-the-federal-workforce/.

II. Topics

The CPSC's Equity Action Plan, available at https://www.cpsc.gov/equity, outlines the agency's efforts to address such disparities. CPSC seeks information from any interested parties on the Equity Action Plan and potential methods of improving agency informational and educational outreach, stakeholder engagement, regulatory and enforcement policies, research methods, data and analysis, standards development, or any other relevant strategies to reduce deaths and injuries associated with racial disparities or other underserved communities.

III. Roundtable Details

A. Time and Place

CPSC staff will hold the forum in-person and via webinar from 1 p.m. to 3 p.m., Eastern Standard Time (EST) on Wednesday, May 25, 2022.

B. Registration

Registration is required to participate as a discussant and attend via webinar. Registration is not required to attend in person. If you would like to attend the roundtable discussion as an observer, but you do not wish to participate as a discussant, please register online by May 24, 2022. (See the ADDRESSES portion of this document for the website link and instructions to register.)

If you would like to participate in the roundtable discussion in-person, contact Jonathan Midgett, Consumer Ombudsman, at consumerombudsman@cpsc.gov by May 18, 2022. If you would like to participate in the roundtable discussion via webinar, contact Jonathan Midgett, Consumer Ombudsman, at consumerombudsman@cpsc.gov and register by May 18, 2022. (See the ADDRESSES portion of this document for the website link.) CPSC staff will select participants, based on considerations such as the total number of volunteers, time constraints, and the goal of having representation from a wide variety of stakeholder groups and interests. Staff will notify those who are selected to participate by May 20, 2022. Although staff will try to accommodate all persons who wish to participate, the final discussant group will depend on the number of persons who wish to contribute. If you have any questions regarding participating in the roundtable, please contact Jonathan Midgett, by email at: consumerombudsman@cpsc.gov, or telephone at: 301-509-8120. Detailed instructions for the webinar participants and other interested parties will be made available on the CPSC's Public Calendar: https://cpsc.gov/newsroom/public-calendar.

Alberta E. Mills,
Secretary, U.S. Consumer Product Safety Commission.

[FR Doc. 2022-09409 Filed 5-2-22; 8:45 am]

BILLING CODE 6355-01-P